DEPARTMENT OF DEFENSE

Department of the Navy

Notice of the Record of Decision for the West Coast Basing of the MV-22 Aircraft

AGENCY: Department of the Navy, DOD.

ACTION: Notice of Record of Decision.

SUMMARY: Pursuant to Section 102(2)(c) of the National Environmental Policy Act (NEPA) of 1969, 42 United States Code (U.S.C.) Section 4332(2)(c), the regulations of the Council on Environmental Quality (CEQ) for Implementing the Procedural Provisions of NEPA (40 Code of Federal Regulations [CFR] parts 1500-1508), the Department of the Navy NEPA regulations (32 CFR part 775), and the Marine Corps Environmental Compliance and Protection Manual, which is Marine Corps Order P5090.2A w/change 2 (MCO P5090.2A), the Department of the Navy (DON) announces its decision to introduce up to ten MV-22 squadrons (120 aircraft) on the West Coast and replace nine helicopter squadrons (114 aircraft) currently authorized for basing on the West Coast as part of a U.S. Marine Corps (USMC)-wide process of replacing its aging fleet of medium-lift helicopters with more advanced, operationally-capable aircraft.

More specifically, this action will include: (1) Basing up to eight MV-22 squadrons at Marine Corps Air Station (MCAS) Miramar, in San Diego, California, and up to two MV-22 squadrons at MCAS Camp Pendleton, north of San Diego. The total of 10 squadrons will consist of eight squadrons for employment by the Third Marine Aircraft Wing (3D MAW) to provide medium-lift capability to I Marine Expeditionary Force (I MEF) and two squadrons to provide a West Coast reserve component medium-lift capability; (2) constructing and/or renovating airfield facilities at MCAS Miramar and MCAS Camp Pendleton to accommodate and maintain the MV-22 squadrons; and (3) conducting MV-22 readiness and training operations and special exercise operations to attain and maintain proficiency in the operational employment of the MV-22. Implementation of this action will be accomplished as set out in the Preferred Alternative and described in the Final Environmental Impact Statement (Final EIS) of October 2009.

SUPPLEMENTARY INFORMATION: The complete text of the Record of Decision is available for public viewing on the project Web site at http://www.mv22eiswest.net/along with copies of the Final EIS and supporting documents. For further information, contact Homebasing EIS Project Manager, 1220 Pacific Highway, San Diego, California 92132-5190. Telephone: 619-532-4742.

Dated: November 18, 2009.
A.M. Vallandingham,
Lieutenant Commander, Judge Advocate General's Corps, U.S. Navy, Federal Register Liaison Officer.

[FR Doc. E9-28042 Filed 11-20-09; 8:45 am]

BILLING CODE 3810-FF-P